DEPARTMENT OF HOMELAND SECURITY

Federal Emergency Management Agency

[Docket ID FEMA-2007-0008]

National Advisory Council; Meeting

AGENCY: Federal Emergency Management Agency, DHS.

ACTION: Committee Management; notice of open Federal Advisory Committee meeting.

SUMMARY: The Federal Emergency Management Agency's National Advisory Council (NAC) will meet December 1-2, 2020. The meeting will be open to the public through virtual means.

DATES: The NAC will meet by virtual means Tuesday, December 1 and Wednesday, December 2, 2020, between 12:30 p.m. to 5 p.m. Eastern Time (ET). Please note that the meeting may close early if the NAC has completed its business.

ADDRESSES: All membership, FEMA, invited guest and public participation is by virtual means only. Anyone who wishes to participate must register with FEMA prior to the meeting by providing their name, telephone number, email address, title, and organization to the person listed in the FOR FURTHER INFORMATION CONTACT caption by 5 p.m. ET Friday, November 27, 2020.

To facilitate public participation, members of the public are invited to provide written comments on the issues to be considered by the NAC. The topic areas are indicated in the SUPPLEMENTARY INFORMATION caption. The full agenda and any related documents for this meeting will be available by Friday, November 27, 2020, by contacting the person listed in the FOR FURTHER INFORMATION CONTACT caption. Written comments must be submitted and received by 5 p.m. ET on November 27, 2020, identified by Docket ID FEMA-2007-0008, and submitted by the following method: Federal eRulemaking Portal: http://www.regulations.gov. Follow the instructions for submitting comments.

Instructions: All submissions must include the words “Federal Emergency Management Agency” and the docket ID for this action. Comments received, including any personal information provided, will be posted without alteration at http://www.regulations.gov. You may wish to read the “Privacy & Security Notice” found via a link on the homepage of www.regulations.gov.

Docket: For access to the docket to read comments received by the NAC, go to http://www.regulations.gov, and search for Docket ID FEMA-2007-0008.

Public comment periods will be held on Tuesday, December 1, 2020, from 1:30 p.m. to 1:40 p.m. ET and on Wednesday, December 2, 2020, from 1:30 p.m. to 1:40 p.m. ET. All speakers must limit their comments to 3 minutes. Comments should be addressed to the NAC. Any comments not related to the agenda topics will not be considered by the NAC. To register to make remarks during the public comment period, contact the person listed in the FOR FURTHER INFORMATION CONTACT caption by 5 p.m. ET Friday, November 27, 2020. Please note that the public comment period may end before the time indicated, following the last call for comments.

Reasonable accommodations are available for people with disabilities. To request a reasonable accommodation, contact the person listed in the FOR FURTHER INFORMATION CONTACT caption as soon as possible. Last minute requests will be accepted but may not be possible to fulfill.

FOR FURTHER INFORMATION CONTACT: Jasper Cooke, Designated Federal Officer, Office of the National Advisory Council, Federal Emergency Management Agency, 500 C Street SW, Washington, DC 20472-3184, telephone (202) 646-2700, and email FEMA-NAC@fema.dhs.gov. The NAC website is http://www.fema.gov/national-advisory-council.

SUPPLEMENTARY INFORMATION: Notice of this meeting is given under the Federal Advisory Committee Act, 5 U.S.C. Appendix.

The NAC advises the FEMA Administrator on all aspects of emergency management. The NAC incorporates input from State, local, territorial, and Tribal governments and the private sector in making recommendations to the FEMA Administrator to be considered and potentially incorporated into FEMA plans and strategies. The NAC includes a cross-section of officials, emergency managers, and emergency response providers from State, local, territorial, and Tribal governments, the private sector, and nongovernmental organizations.

Agenda: On Tuesday, December 1, 2020, the NAC will hear from participants and discuss expediting disaster assistance.

On Wednesday, December 2, 2020, the NAC will hear from participants and discuss creating an equity standard.

The full agenda and any related documents for this meeting will be available by Friday, November 27, 2020, by contacting the person listed in FOR FURTHER INFORMATION CONTACT.

Pete Gaynor,
Administrator, Federal Emergency Management Agency.

[FR Doc. 2020-24847 Filed 11-6-20; 8:45 am]

BILLING CODE 9111-48-P